DEPARTMENT OF STATE

[Notice Number 3845]

Shipping Coordinating Committee; Notice of Meeting

The Shipping Coordinating Committee (SHC) will conduct an open meeting at 9:30 a.m. on Tuesday, December 11, 2001, in room 1303 at U.S. Coast Guard Headquarters, 2100 Second Street, SW, Washington, DC, 20593-0001.

The purpose of the meeting is to review the agenda items to be considered at the twenty-ninth session of the Facilitation Committee (FAL 29) of the International Maritime Organization (IMO), which is scheduled for January 7 to 11, 2002, at the IMO headquarters in London. Proposed U.S. positions on the agenda items for FAL 29 will be discussed.

The major items for discussion for FAL 29 will include the following:

—Convention on Facilitation of International Maritime Traffic

—Consideration and adoption of proposed amendments to the Annex to the Convention

—EDI messages for the clearance of ships

—Application of the Committee's Guidelines

—General review of the Convention including harmonization with other international instruments

—Formalities connected with the arrival, stay and departure of ships

—Formalities connected with the arrival, stay and departure of persons—Stowaways

—Facilitation aspects of other IMO forms and certificates

—Technical co-operation sub-programme for facilitation

—Ship-port interface

Members of the public may attend this meeting up to the seating capacity of the room. Interested persons may seek information by writing: Chief, Office of Standards Evaluation and Development, U.S. Coast Guard Headquarters, Commandant (G-MSR), room 1400, 2100 Second Street, SW., Washington, DC, 20593-0001 or by calling Mr. David A. Du Pont at: (202) 267-0971.

Dated: November 9, 2001.
Stephen Miller,
Executive Secretary, Shipping Coordinating Committee, Department of State.

[FR Doc. 01-29157 Filed 11-20-01; 8:45 am]

BILLING CODE 4710-07-P